DEPARTMENT OF COMMERCE

National Oceanic and Atmospheric Administration

50 CFR Part 218

[Docket No. 201207-0329]

RIN 0648-BJ90

Takes of Marine Mammals Incidental to Specified Activities; Taking Marine Mammals Incidental to U.S. Navy Construction at Naval Station Norfolk in Norfolk, Virginia

Correction

In proposed rule document 2020-27300 appearing on pages 83001 through 83026 in the issue of Monday, December 21, 2020, make the following correction:

(1) On page 83001, in the second column, in the DATES section, change “January 20, 2021” to read “January 21, 2021.”

[FR Doc. C1-2020-27300 Filed 1-12-21; 8:45 am]

BILLING CODE 1301-00-D